DEPARTMENT OF STATE

[Public Notice 7010]

Notice of Meeting

Title: Shipping Coordinating Committee; Notice of Committee Meeting.

The Shipping Coordinating Committee (SHC) will conduct an open meeting at 9:30 am on Friday, May 28, 2010, in Room 1303 of the United States Coast Guard Headquarters Building, 2100 Second Street, SW., Washington, DC 20593-0001. The primary purpose of the meeting is to prepare for the sixtieth Session of the International Maritime Organization (IMO) Technical Cooperation Committee to be held at the IMO headquarters in London, United Kingdom, from June 1-3, 2010.

The primary matters to be considered include:

—Adoption of the agenda

—Work of other bodies and organizations

—Integrated Technical Co-operation Programme: Biennial report on 2008-2009

—Financing the Integrated Technical Co-operation Programme

—Partnerships for progress

—Voluntary IMO Member State Audit Scheme

—Programme on the integration of women in the maritime sector

—Institutional development and fellowships

—Linkage between the Integrated Technical Co-operation Programme and the Millennium Development Goals

—Work programme

—Any other business

—Election of the Chairman and Vice-Chairman for 2011

—Consideration of the report of the Committee

Members of the public may attend this meeting up to the seating capacity of the room. To facilitate the building security process and to request reasonable accommodation, those who plan to attend should contact the meeting coordinator, LCDR Jason Smith, by e-mail at jason.e.smith2@uscg.mil, by phone at (202) 372-1376, by fax at (202) 372-1925, or in writing at Commandant (CG-52), U.S. Coast Guard, 2100 2nd Street, SW., Stop 7126, Washington, DC 20593-7126. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: www.uscg.mil/imo.

This announcement might appear in the Federal Register less than 15 days prior to the meeting. The Department of State finds that there is an exceptional circumstance in that this advisory committee meeting must be held on May 28 in order to prepare for the IMO Technical Cooperation Committee meeting, convening in London on June 1st.

Dated: May 11, 2010.
Jon Trent Warner,
Executive Secretary, Shipping Coordinating Committee, Department of State.

[FR Doc. 2010-11717 Filed 5-14-10; 8:45 am]

BILLING CODE 4710-09-P